DEPARTMENT OF COMMERCE

International Trade Administration

Reestablishment of the Renewable Energy and Energy Efficiency Advisory Committee and Solicitation of Nominations for Membership

AGENCY: Renewable Energy and Energy and Energy Efficiency Advisory Committee: International Trade Administration, U.S. Department of Commerce.

ACTION: Notice of Reestablishment of the Renewable Energy and Energy Efficiency Advisory Committee and Solicitation of Nominations for Membership.

SUMMARY: Pursuant to provisions of the Federal Advisory Committee Act, 5 U.S.C. App., the Department of Commerce announces the reestablishment of the Renewable Energy and Energy Efficiency Advisory Committee (the Committee). The Committee shall advise the Secretary of Commerce regarding the development and administration of programs and policies to expand the competitiveness of U.S. exports of renewable energy and energy efficiency goods and services, in accordance with applicable United States regulations. The Committee's work on energy efficiency will focus on technologies, services, and platforms that provide system-level energy efficiency to electricity generation, transmission, and distribution. These include smart grid technologies and services, as well as equipment and systems that increase the resiliency of power infrastructure. For the purposes of this Committee, covered goods and services will not include vehicles, feedstock for biofuels, or energy efficiency as it relates to consumer goods. Non-fossil fuels that are considered renewable fuels (e.g., liquid biofuels and pellets) are included. This notice also requests nominations for membership.

DATES: Nominations for members must be received on or before 4:00 p.m. Eastern Daylight Time (EDT) on August 15, 2014.

Nominations: The Secretary of Commerce invites nominations to the committee, of U.S. citizens who will represent U.S. companies in the renewable energy and energy efficiency sector that trade internationally, or U.S. trade associations or other U.S. private sector organizations with activities focused on the competitiveness of U.S. exports of renewable energy and energy efficiency goods and services. No member may represent a company that is majority owned or controlled by a foreign government entity or foreign government entities. Nominees meeting the eligibility requirements will be considered based upon their ability to carry out the goals of the Committee as articulated above. If you are interested in applying or nominating someone else to become a member of the Committee, please provide the following information:

(1) Sponsor letter on the company's, trade association's or organization's letterhead containing the name, title, and relevant contact information (including phone, fax, and email address) of the individual requesting consideration;

(2) An affirmative statement that the nominee will be able to meet the expected time commitments of Committee work. Committee work includes (1) attending in-person committee meetings roughly four times per year (lasting one day each), (2) undertaking additional work outside of full committee meetings including subcommittee conference calls or meetings as needed, and (3) frequently drafting, preparing, or commenting on proposed recommendations to be evaluated at Committee meetings;

(3) Short biography of nominee, including credentials;

(4) Brief description of the company, trade association, or organization to be represented and its business activities; company size (number of employees and annual sales); and export markets served;

(5) An affirmative statement that the nominee is not a Federally registered lobbyist, and that the nominee understands that if appointed, he/she will not be allowed to continue to serve as a Committee member if the nominee becomes a Federally registered lobbyist;

(6) An affirmative statement that the nominee meets all Committee eligibility requirements. Please do not send company, trade association, or organization brochures or any other information.

Nominations may be emailed to Ryan.Mulholland@trade.gov or faxed to the attention of Ryan Mulholland at 202-482-5665, or mailed to Ryan Mulholland, Office of Energy & Environmental Industries, Room 4053, U.S. Department of Commerce, 1401 Constitution Avenue NW., Washington, DC 20230, and must be received before August 15, 2014. Nominees selected for appointment to the Committee will be notified by return mail.

FOR FURTHER INFORMATION CONTACT: Ryan Mulholland, Office of Energy & Environmental Industries, Room 4053, U.S. Department of Commerce, 1401 Constitution Avenue NW., Washington, DC 20230; phone 202-482-4693; fax 202-482-5665; email Ryan.Mulholland@trade.gov.

Dated: June 17, 2014.
Edward A. O'Malley,
Director, Office of Energy and Environmental Industries.

[FR Doc. 2014-14546 Filed 6-20-14; 8:45 am]

BILLING CODE 3510-DR-P